DEPARTMENT OF COMMERCE

International Trade Administration

(A-580-816)

Corrosion-Resistant Carbon Steel Flat Products from Korea: Extension of Time Limits for the Final Results of Antidumping Duty New Shipper Review

AGENCY: Import Administration, International Trade Administration, Department of Commerce.

EFFECTIVE DATE: April 21, 2008.

FOR FURTHER INFORMATION CONTACT: Victoria Cho or George McMahon, AD/CVD Operations, Office 3, Import Administration, International Trade Administration, U.S. Department of Commerce, 14th Street and Constitution Avenue, NW, Washington, DC 20230; telephone: (202) 482-5075 and (202) 482-1167, respectively.

SUPPLEMENTARY INFORMATION:

Background

On January 23, 2008, the Department published the preliminary results of the new shipper review of the antidumping duty order on certain corrosion-resistant carbon steel products (CORE) from the Republic of Korea. See Certain Corrosion-Resistant Carbon Steel Flat Products from the Republic of Korea: Notice of Preliminary Results of Antidumping Duty New Shipper Review, 73 FR 3925 (January 23, 2008). The final results are currently due no later than April 14, 2008.

Extension of Time Limit of Preliminary Results

Section 751(a)(2)(B)(iv) of the Tariff Act of 1930, as amended (the Act), requires the Department to issue the final results of a new shipper review within 90 days after the date on which the preliminary results were issued. However, if the Department concludes that the case is extraordinarily complicated, it may extend the 90-day period to 150 days. Interested parties raised several complex issues pertaining to Haewon MSC Co., Ltd.'s cost of production and financial ratios that require a significant amount of analysis by the Department. Given the complex issues raised by the parties in their comments on our preliminary results, and in accordance with section 751(a)(2)(B)(iv) of the Act, we are extending the time period for issuing the final results of review to 150 days after the publication of the preliminary results. Therefore, as that day falls on a Saturday, the final results are now due no later than June 23, 2008, the next business day.

This extension is issued and published in accordance with sections 751(a)(2)(B)(iv) and 777(i)(1) of the Act and 19 CFR 351.214(i)(2).

Dated: April 9, 2008.
Stephen J. Claeys,
Deputy Assistant Secretary for Import Administration.

[FR Doc. E8-8570 Filed 4-18-08; 8:45 am]

BILLING CODE 3510-DS-S